DEPARTMENT OF THE INTERIOR

Fish and Wildlife Service

[FWS-R3-ES-2023-N016; FXES11130300000-234-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the ESA. We invite the public and local, State, Tribal, and Federal agencies to comment on these applications. Before issuing any of the requested permits, we will take into consideration any information that we receive during the public comment period.

DATES: We must receive your written comments on or before April 7, 2023.

ADDRESSES: Document availability and comment submission: Submit requests for copies of the applications and related documents, as well as any comments, by one of the following methods. All requests and comments should specify the applicant name(s) and application number(s) (e.g., ESXXXXXX; see table in SUPPLEMENTARY INFORMATION):

• Email (preferred method): permitsR3ES@fws.gov. Please refer to the respective application number (e.g., Application No. ESXXXXXX) in the subject line of your email message.

• U.S. Mail: Regional Director, Attn: Nathan Rathbun, U.S. Fish and Wildlife Service, Ecological Services, 5600 American Blvd. West, Suite 990, Bloomington, MN 55437-1458.

FOR FURTHER INFORMATION CONTACT: Nathan Rathbun, 612-713-5343 (phone); permitsR3ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act and the Freedom of Information Act.

Background

The ESA prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies and the public to submit written data, views, or arguments with respect to these applications. The comments and recommendations that will be most useful and likely to influence agency decisions are those supported by quantitative information or studies. Proposed activities in the following permit requests are for the recovery and enhancement of propagation or survival of the species in the wild.

Application No. | Applicant | Species | Location | Activity | Type of take | Permit action
ES48835A | Applied Science & Technology, Inc., Brighton, MI | Snuffbox (Epioblasma triquetra), rayed bean (Villosa fabalis), clubshell (Pleurobema clava), white catspaw (Epioblasma obliquata perobliquata), purple cat's paw (Epioblasma obliquata obliquata), rabbitsfoot (Quadrula cylindrica cylindrica), sheepnose mussel (Plethobasus cyphyus), fanshell (Cyprogenia stegaria) | MI, OH | Conduct presence/absence surveys, document habitat use, conduct population monitoring, and evaluate impacts | Capture, handle, release | Renew.
ESPER1224019 | Eric Snyder, Spring Lake, MI | Snuffbox (Epioblasma triquetra) | MI | Conduct presence/absence surveys, document habitat use, conduct population monitoring, and evaluate impacts | Capture, handle, release | New.
ESPER1224186 | Greg Gaulke, O'Fallon, MO | Snuffbox (Epioblasma triquetra),pink mucket (Lampsilis abrupta), spectaclecase (Cumberlandia monodonta), Ouachita rock pocketbook (Arcidens wheeleri), winged mapleleaf (Quadrula fragosa) rabbitsfoot (Quadrula cylindrica cylindrica), Higgins' eye pearlymussel (Lampsilis higginsii) | IL, IA, MI, MN, MO, OK, OH, WI | Conduct presence/absence surveys, document habitat use, conduct population monitoring, and evaluate impacts | Capture, handle, relocate, release | New.
ES26953C | Karen Goodell, Newark, OH | Rusty patched bumblebee (Bombus affinis) | Add new locations—NY, IL, WI—to existing authorized locations: OH, PA, MD, VA, WV | Conduct presence/ absence surveys, document habitat use, conduct population monitoring, and evaluate impacts | Add new activities—bio sample—to existing authorized activities: capture, handle, release | Renew and amend.
ES62048D | Carly Kalina, Des Moines, IA | Indiana bat (Myotis sodalis), gray bat (M. grisescens), northern long-eared bat (M. septentrionalis) | Add new States—DC, KS, LA, ME, MN, MT, NE, ND, RI, SD, WI, WY—to existing authorized States: AL, AR, CT, DE, GA, IL, IN, IA, KY, MD, MA, MI, MS, MO, NH, NJ, NY, NC, OH, OK, PA, SC, TN, VT, VA, WV | Conduct presence/absence surveys, document habitat use, conduct population monitoring, and evaluate impacts | Capture, handle, band, attach radio transmitters, release | Amend.
PER1306120 | Anthony Marinelli, Lexington, SC | Indiana bat (Myotis sodalis), gray bat (M. grisescens), northern long-eared bat (M. septentrionalis) | AL, AR, CT, DE, GA, IA, IL, IN, KS, KY, LA, ME, MD, MA, MS, MO, NC, ND, NE, NH, NJ, NY, OH, OK, PA, RI, SC, SD, TN, TX, VA, VT, WV, WI, WY | Conduct presence/absence surveys, document habitat use, conduct population monitoring, and evaluate impacts | Capture, handle, band, attach radio transmitters, release | New.
ESPER1369190 | Hennepin County, Minneapolis, MN | Rusty patched bumble bee (Bombus affinis) | MN | Conduct presence/absence surveys, document habitat use, conduct population monitoring, and evaluate impacts | Capture, handle, release | New.
PER1462021 | Keystone Ecological Services, LLC, Wellsboro, PA | Northern long-eared bat (Myotis septentrionalis), Indiana bat (M. sodalis), Virginia big-eared bat (Corynorhinus townsendii virginianus) | DE, DC, IA, KY, LA, MA, MD, ME, MI, MN, MT, NC, ND, NE, NH, NY, OH, PA, RI, SC, SD, TN, VA, VT, WI, WV | Conduct presence/absence surveys, document habitat use, conduct population monitoring, and evaluate impacts | Capture, handle, identify, band, attach radio transmitters, collect non-intrusive measurements, release | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Lori Nordstrom,
Assistant Regional Director, Ecological Services, USFWS Region 3.

[FR Doc. 2023-04772 Filed 3-7-23; 8:45 am]

BILLING CODE 4333-15-P